DEPARTMENT OF TRANSPORTATION

Federal Aviation Administration

14 CFR Part 39

[Docket No. FAA-2023-1222; Project Identifier AD-2023-00574-T; Amendment 39-22547; AD 2023-18-06]

RIN 2120-AA64

Airworthiness Directives; The Boeing Company Airplanes

AGENCY: Federal Aviation Administration (FAA), DOT.

ACTION: Final rule.

SUMMARY: The FAA is superseding Airworthiness Directive (AD) 2021-02-15, which applied to certain The Boeing Company Model 747-100, 747-100B, 747-100B SUD, 747-200B, 747-200C, 747-200F, 747-300, 747-400, 747-400D, 747-400F, and 747SR series airplanes. AD 2021-02-15 required repetitive replacement of certain parts; an inspection to determine production configuration for certain parts; repetitive lubrication of certain parts and a repetitive inspection of certain parts for any exuding grease; repetitive inspections of certain parts for loose or missing attachment bolts, cracks or bushing migration, cracks or gouges, or broken, binding, or missing rollers; repetitive inspections of certain parts for cracks or corrosion; repetitive lubrication; and on-condition actions if necessary. This AD was prompted by the FAA's determination that certain compliance times must be reduced in order to address the unsafe condition. This AD continues to require the actions specified in AD 2021-02-15 with certain reduced compliance times. The FAA is issuing this AD to address the unsafe condition on these products.

DATES: This AD is effective November 7, 2023.

The Director of the Federal Register approved the incorporation by reference of a certain publication listed in this AD as of November 7, 2023.

ADDRESSES:

AD Docket: You may examine the AD docket at regulations.gov under Docket No. FAA-2023-1222; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For service information identified in this final rule, contact Boeing Commercial Airplanes, Attention: Contractual & Data Services (C&DS), 2600 Westminster Blvd., MC 110-SK57, Seal Beach, CA 90740-5600; telephone 562-797-1717; website myboeingfleet.com.

• You may view this service information at the FAA, Airworthiness Products Section, Operational Safety Branch, 2200 South 216th St., Des Moines, WA. For information on the availability of this material at the FAA, call 206-231-3195. It is also available at regulations.gov under Docket No. FAA-2023-1222.

FOR FURTHER INFORMATION CONTACT: Stefanie Roesli, Aviation Safety Engineer, FAA, 2200 South 216th St., Des Moines, WA 98198; phone: 206-231-3964; email: Stefanie.N.Roesli@faa.gov.

SUPPLEMENTARY INFORMATION:

Background

The FAA issued a notice of proposed rulemaking (NPRM) to amend 14 CFR part 39 to supersede AD 2021-02-15, Amendment 39-21398 (86 FR 10750, February 23, 2021) (AD 2021-02-15). AD 2021-02-15 applied to certain The Boeing Company Model 747-100, 747-100B, 747-100B SUD, 747-200B, 747-200C, 747-200F, 747-300, 747-400, 747-400D, 747-400F, and 747SR series airplanes. The NPRM published in the Federal Register on July 10, 2023 (88 FR 43479). The NPRM was prompted by the FAA's determination that certain compliance times must be reduced in order to address the unsafe condition. In the NPRM, the FAA proposed to continue to require the actions specified in AD 2021-02-15 with certain reduced compliance times. The FAA is issuing this AD to address departures of the inboard foreflap assembly from the airplane, which could result in damage to the airplane and adversely affect the airplane's continued safe flight and landing.

Discussion of Final Airworthiness Directive

Comments

The FAA received comments from Air Line Pilots Association, International (ALPA) and Boeing, who supported the NPRM without change.

Conclusion

The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Related Service Information Under 1 CFR Part 51

The FAA reviewed Boeing Alert Requirements Bulletin 747-57A2367 RB, Revision 1, dated March 20, 2023. This service information specifies procedures for repetitive replacement of certain parts; a general visual inspection to determine production configuration for certain parts; a repetitive lubrication of certain parts and a repetitive general visual inspection of certain parts for any exuding grease; repetitive detailed inspections of certain parts for loose or missing attachment bolts, cracks or bushing migration, cracks or gouges, or broken, binding, or missing rollers; repetitive detailed inspections of certain parts for cracks or corrosion; repetitive lubrication; and on-condition actions if necessary. On-condition actions include replacements and repair.

This service information is reasonably available because the interested parties have access to it through their normal course of business or by the means identified in ADDRESSES.

Costs of Compliance

The FAA estimates that this AD affects 134 airplanes of U.S. registry. The FAA estimates the following costs to comply with this AD:

Estimated Costs
Action | Labor cost | Parts cost | Cost per product | Cost on U.S. operators
Repetitive replacement (retained actions from AD 2021-02-15) | Up to 10 work-hours × $85 per hour = Up to $850 per replacement cycle | $35,719 | Up to $36,569 per replacement cycle | Up to $4,900,246 per replacement cycle.
General visual inspection for parts production configuration (retained actions from AD 2021-02-15) | 1 work-hour × $85 per hour = $85 | 0 | $85 | $11,390.
Repetitive detailed inspections (retained actions from AD 2021-02-15) | 4 work-hours × $85 per hour = $340 per inspection cycle | 0 | $340 per inspection cycle | $45,560 per inspection cycle.
Repetitive inspection for lubrication and repetitive lubrication (retained actions from AD 2021-02-15) | 1 work-hour × $85 per hour = $85 per lubrication | 0 | $85 per lubrication | $11,390 per lubrication.

The FAA estimates the following costs to do any necessary on-condition actions that would be required. The FAA has no way of determining the number of aircraft that might need these on-condition actions:

Estimated Costs of On-Condition Replacements
Labor cost | Parts cost | Cost per product
Up to 8 work-hour × $85 per hour = $680 | Up to $17,720 | Up to $18,400.

The FAA has received no definitive data that would enable the FAA to provide cost estimates for the on-condition repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2021-02-15, Amendment 39-21398 (86 FR 10750, February 23, 2021); and

b. Adding the following new AD:

2023-18-06 The Boeing Company: Amendment 39-22547; Docket No. FAA-2023-1222; Project Identifier AD-2023-00574-T.

(a) Effective Date

This airworthiness directive (AD) is effective November 7, 2023.

(b) Affected ADs

This AD replaces AD 2021-02-15, Amendment 39-21398 (86 FR 10750, February 23, 2021) (AD 2021-02-15).

(c) Applicability

This AD applies to The Boeing Company Model 747-100, 747-100B, 747-100B SUD, 747-200B, 747-200C, 747-200F, 747-300, 747-400, 747-400D, 747-400F, and 747SR series airplanes, certificated in any category, as identified in Boeing Alert Requirements Bulletin 747-57A2367 RB, Revision 1, dated March 20, 2023.

(d) Subject

Air Transport Association (ATA) of America Code 57, Wings.

(e) Unsafe Condition

This AD was prompted by reports of partial and full inboard foreflap departures from the airplane. The FAA is issuing this AD to address departures of the inboard foreflap assembly from the airplane, which could result in damage to the airplane and adversely affect the airplane's continued safe flight and landing.

(f) Compliance

Comply with this AD within the compliance times specified, unless already done.

(g) Retained Actions, With Revised Compliance Times and Service Information

This paragraph restates the requirements of paragraph (g) of AD 2021-02-15, with revised compliance times and service information. Except as specified by paragraph (h) of this AD: At the applicable times specified in the “Compliance” paragraph of Boeing Alert Requirements Bulletin 747-57A2367 RB, Revision 1, dated March 20, 2023, do all applicable actions identified in, and in accordance with, the Accomplishment Instructions of Boeing Alert Requirements Bulletin 747-57A2367 RB, Revision 1, dated March 20, 2023.

Note 1 to paragraph (g): Guidance for accomplishing the actions required by this AD can be found in Boeing Alert Service Bulletin 747-57A2367, Revision 1, dated March 20, 2023, which is referred to in Boeing Alert Requirements Bulletin 747-57A2367 RB, Revision 1, dated March 20, 2023.

(h) Exceptions to Service Information Specifications

(1) Where the Compliance Time columns of the tables in the “Compliance” paragraph of Boeing Alert Requirements Bulletin 747-57A2367 RB, Revision 1, dated March 20, 2023, use the phrase “the original issue date of Requirements Bulletin 747-57A2367 RB,” this AD requires using March 30, 2021 (the effective date of AD 2021-02-15).

(2) Where the Compliance Time columns of the tables in the “Compliance” paragraph of Boeing Alert Requirements Bulletin 747-57A2367 RB, Revision 1, dated March 20, 2023, use the phrase “the Revision 1 date of Requirements Bulletin 747-57A2367 RB,” this AD requires using “the effective date of this AD.”

(i) Credit for Previous Actions

This paragraph provides credit for the actions specified in paragraph (g) of this AD, if those actions were performed before the effective date of this AD using Boeing Alert Requirements Bulletin 747-57A2367 RB, dated November 15, 2019.

(j) Alternative Methods of Compliance (AMOCs)

(1) The Manager, AIR-520 Continued Operational Safety Branch, FAA, has the authority to approve AMOCs for this AD, if requested using the procedures found in 14 CFR 39.19. In accordance with 14 CFR 39.19, send your request to your principal inspector or responsible Flight Standards Office, as appropriate. If sending information directly to the manager of AIR-520 Continued Operational Safety Branch, send it to the attention of the person identified in paragraph (k)(1) of this AD. Information may be emailed to: 9-ANM-Seattle-ACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520 Continued Operational Safety Branch, FAA, to make those findings. To be approved, the repair method, modification deviation, or alteration deviation must meet the certification basis of the airplane, and the approval must specifically refer to this AD.

(4) AMOCs approved for AD 2021-02-15 are approved as AMOCs for the corresponding provisions of Boeing Alert Requirements Bulletin 747-57A2367 RB, Revision 1, dated March 20, 2023, that are required by paragraph (g) of this AD.

(k) Related Information

(1) For more information about this AD, contact Stefanie Roesli, Aviation Safety Engineer, FAA, 2200 South 216th St., Des Moines, WA 98198; phone: 206-231-3964; email: Stefanie.N.Roesli@faa.gov.

(2) Service information identified in this AD that is not incorporated by reference is available at the addresses specified in paragraphs (l)(3) and (4) of this AD.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Requirements Bulletin 747-57A2367 RB, Revision 1, dated March 20, 2023.

(ii) [Reserved]

(3) For service information identified in this AD, contact Boeing Commercial Airplanes, Attention: Contractual & Data Services (C&DS), 2600 Westminster Blvd., MC 110-SK57, Seal Beach, CA 90740-5600; telephone 562-797-1717; website myboeingfleet.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fr.inspection@nara.gov, or go to: www.archives.gov/federal-register/cfr/ibr-locations.html.

Issued on September 7, 2023.
Caitlin Locke,
Director, Compliance & Airworthiness Division, Aircraft Certification Service.

[FR Doc. 2023-21718 Filed 10-2-23; 8:45 am]

BILLING CODE 4910-13-P